DEPARTMENT OF LABOR

Employment and Training Administration

[TA-W-59,603]

Somitex Prints of California, Inc.; City of Industry, CA; Notice of Termination of Investigation

Pursuant to section 221 of the Trade Act of 1974, an investigation was initiated on June 21, 2006 in response to a worker petition filed by the State One-Stop Operator on behalf of workers at Somitex Prints of California, Inc., City of Industry, California.

The petition indicates that domestic production of the firm ended in 2005, and operations have been transferred to Japan to serve customers overseas.

The Department has been unable to locate company officials of the subject firm, and has been unable to obtain the information necessary to reach a determination on worker group eligibility. Consequently, further investigation in this case would serve no purpose, and the investigation has been terminated.

Signed at Washington, DC, this 18th day of July 2006.
Richard Church,
Certifying Officer, Division of Trade Adjustment Assistance.

[FR Doc. E6-13180 Filed 8-10-06; 8:45 am]

BILLING CODE 4510-30-P